DEPARTMENT OF EDUCATION

Peer Review Opportunities With the U.S. Department of Education's Office of Elementary and Secondary Education (OESE); Office of English Language Acquisition (OELA); Office of Postsecondary Education (OPE); and Office of Special Education and Rehabilitative Services (OSERS)

AGENCY: Office of Elementary and Secondary Education, Office of English Language Acquisition, Office of Postsecondary Education, and Office of Special Education and Rehabilitative Services, U.S. Department of Education.

ACTION: Notice.

SUMMARY: The U.S. Department of Education (Department) announces opportunities for individuals to participate in its peer review process for competitive grant funding under the programs administered by OESE, OELA, OPE, and OSERS.

DATES: Requests to serve as a peer reviewer for fiscal year 2024 will be accepted on an ongoing basis, aligned with this year's grant competition schedule. Requests to serve as a peer reviewer should be submitted at least four weeks prior to the program's application deadline noted on the Department's website under “Forecast of Funding Opportunities” at www2.ed.gov/fund/grant/find/edlite-forecast.html. This notice highlights the specific needs of OESE, OELA, OPE, and OSERS.

ADDRESSES: An individual interested in serving as a peer reviewer must register and upload his or her resume in the Department's grants management system known as “G6” at www.g6.gov.

FOR FURTHER INFORMATION CONTACT:

OESE: Andrew Brake, U.S. Department of Education, 400 Maryland Avenue SW, Room 4B168, Washington, DC 20202. Telephone: (202) 453-6136. Email: andrew.brake@ed.gov.

OELA: Francisco Javier López, U.S. Department of Education, 400 Maryland Avenue SW, Washington, DC 20202-5076. Telephone: (202) 558-4880. Email: NPD2024@ed.gov.

OPE: Tonya Hardin, U.S. Department of Education, 400 Maryland Avenue SW, 5th Floor, Washington, DC 20202. Telephone: (202) 453-7694. Email: tonya.hardin@ed.gov.

OSERS: Kate Friday, U.S. Department of Education, 400 Maryland Avenue SW, Room 4A-111, Potomac Center Plaza, Washington, DC 20202-5076. Telephone: (202) 987-1439. Email: kate.friday@ed.gov.

If you are deaf, hard of hearing, or have a speech disability and wish to access telecommunications relay services, please dial 7-1-1.

SUPPLEMENTARY INFORMATION: The mission of the Department is to promote student achievement and preparation for global competitiveness by fostering educational excellence and ensuring equal access. The Department pursues its mission by funding grant programs that will improve access to high-quality educational opportunities and programs that pursue innovations in teaching and learning with a focus on underserved students. The Department also funds programs in other areas as authorized by statute. Grant funds are awarded to State educational agencies; local educational agencies (i.e., school districts); State, local, or Tribal governments; nonprofit organizations; institutions of higher education; and other entities through a competitive process referred to as a grant competition.

Each year the Department convenes panels of external education professionals and practitioners to serve as peer reviewers.¹ Peer reviewers evaluate and score submitted applications against competition-specific criteria and announced priorities. Application scores are then used to inform the Secretary's funding decisions.

¹ Please note that the Institute of Education Sciences (IES) uses different peer review processes and procedures than those described in this notice. More information on the IES peer review process can be found at: https://ies.ed.gov/director/sro/application_review.asp. IES also administers its research grant competitions on a different timeline from other offices in the Department.

Executive Order 13985, Advancing Racial Equity and Support for Underserved Communities Through the Federal Government, directs Federal agencies to “assess whether underserved communities and their members face systemic barriers in accessing benefits and opportunities available pursuant to those policies and programs.” The Department is committed to increasing the racial and ethnic diversity of peer reviewers—an important element of the Department's efforts to implement this Executive order. Moreover, the Department is particularly interested in peer reviewers who represent diverse experiences and perspectives, including experiences working with diverse and underserved communities, and whose expertise pertains to the Department's grant competitions. This emphasis on increasing peer reviewer diversity is included in the Department's Agency Equity Plan, available at www2.ed.gov/documents/equity/2022-equity-plan.pdf.

This year, OESE is managing over 20 grant competitions to fund a range of projects that support increasing the number of mental health providers in schools; education innovation and research; educator preparation, growth, and diversity; migratory or seasonal farmworkers; magnet schools; charter schools; literacy; Indian education; and technical assistance, among others.

OELA is managing one grant competition: National Professional Development. Grants awarded under this program may be used for effective pre-service professional development programs that will increase the number and diversity of fully licensed or certified bilingual or multilingual teachers supporting ELs.

OPE is managing approximately 15 grant competitions to fund a wide range of projects, including projects to support improvements in educational quality, management, and financial stability at colleges and universities that enroll high numbers of underserved students; projects designed to increase college enrollment among students in high-poverty schools; projects to strengthen multilingual education and foreign language instruction, international studies, teaching and research, professional preparation and development for educators, and curriculum development at the K-12, graduate, and postsecondary levels; projects to fund fellowships to students studying in a field designated as an area of national need; projects designed to support high-quality teacher preparation at Historically Black Colleges and Universities, Tribally Controlled Colleges and Universities, and Minority Serving Institutions; and projects to build research and development infrastructure at under resourced institutions.

OSERS is managing nearly 20 grant competitions. The competitions in OSERS' Office of Special Education Programs (OSEP) include those under the following programs: State Personnel Development Grants; Personnel Development; Technical Assistance and Dissemination; Educational Technology, Media, and Materials; and Technical Assistance on State Data Collection. The remaining competitions in OSERS' Rehabilitation Services Administration (RSA) are under the following programs: Braille Training Program, American Indian Vocational Rehabilitation Services, and the Disability Innovation Fund.

The Department seeks to expand its pool of peer reviewers to ensure that applications are evaluated by individuals with up-to-date and relevant knowledge of educational interventions and practices across the learning continuum, from early education to college and career, in a variety of learning settings. Department peer reviewers are education professionals and practitioners who have gained subject matter expertise through their education and work as teachers, professors, principals, administrators, school counselors, researchers, evaluators, content developers, or vocational rehabilitation professionals or interpreters. Peer reviewers can be active education professionals in any educational level or sector, or those who are retired but stay informed of current educational content and issues. No prior experience as a peer reviewer is required.

Peer reviewers for each competition will be selected based on several factors, including each reviewer's program-specific expertise, the number of applications to be reviewed, and the diversity and availability of prospective reviewers. Individuals selected to serve as peer reviewers are expected to participate in training; independently read, score, and provide written evaluative comments on assigned applications; and participate in facilitated panel discussions with other peer reviewers. Panel discussions are held via conference calls or in-person, as identified for the specific competition. The time commitment for peer reviewers is usually several hours a day over a period of two to four weeks. Peer reviewers receive an honorarium payment as monetary compensation for successfully reviewing applications.

If you are interested in serving as a peer reviewer for the Department, you should first review the program web pages of the grant programs that match your area of expertise. You can access information on each grant program from the link provided on the Department's grants forecast page at www2.ed.gov/fund/grant/find/edlite-forecast.html. If you have documented experience that you believe qualifies you to serve as a peer reviewer for one or more specific grant programs, please register in G6, at www.g6.gov, which allows the Department to manage and assign potential peer reviewers to competitions that may draw upon their professional backgrounds and expertise. A toolkit that includes helpful information on how to be considered as a peer reviewer for programs administered by the Department can be found at www2.ed.gov/documents/peer-review/peer-reviewer-toolkit.pptx. Additional information on becoming a peer reviewer is available at www2.ed.gov/fund/grant/about/discretionary/peer-review-flyer-2024.pdf. Neither the submission of a resume nor registration in G6 guarantees you will be selected to be a peer reviewer.

In addition to registering in G6, some OPE and OSERS/RSA peer reviews may require being registered in the System for Award Management. Since registration for this process can take longer than a week, interested individuals are encouraged to register in advance of being contacted by the Department. In addition to registering in G6, some OSERS/OSEP peer reviews require being approved to serve on the Office of Special Education's Standing Panel. Individuals should express their interest to serve as a peer reviewer for OSEP competitions directly to the competition manager listed in the notice inviting applications for that competition at least four weeks prior to the application closing date.

If you have interest in serving as a reviewer specifically for OESE competitions (Chart 2 of the Forecast of Funding Opportunities), you must also send your resume to OESEPeerReviewRecruitment@ed.gov.

If you have interest in serving as a reviewer specifically for the OELA competition (Chart 6 of the Forecast of Funding Opportunities), you must also send your resume to NPD2024@ed.gov. The subject line of the email should read “Prospective 2024 Peer Reviewer.”

If you have interest in serving as a reviewer specifically for RSA competitions (Chart 4B of the Forecast of Funding Opportunities), you must also send your resume to RSAPeerReview@ed.gov and osersprs@ed.gov. The subject line of the email should read “Prospective 2024 Peer Reviewer.” In the body of the email, list all programs for which you would like to be considered to serve as a peer reviewer.

Requests to serve as a peer reviewer should be submitted at least four weeks prior to the program's application deadline, noted on the forecast page, to provide program offices with sufficient time to review resumes and determine an individual's suitability to serve as a peer reviewer for a specific competition. If you are selected to serve as a peer reviewer, the program office will contact you.

Accessible Format: On request to the person(s) listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: Elementary and Secondary Education Act of 1965, as amended (20 U.S.C. 6301 et seq.); Higher Education Act of 1965, as amended (20 U.S.C. 1001 et seq.); Individuals with Disabilities Education Act (20 U.S.C. 1400 et seq.); and the Rehabilitation Act of 1973, as amended by the Workforce Innovation and Opportunity Act (29 U.S.C. 701 et seq.).

Roberto J. Rodriguez,
Assistant Secretary for Planning, Evaluation and Policy Development.

[FR Doc. 2024-08341 Filed 4-18-24; 8:45 am]

BILLING CODE 4000-01-P